COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) previously furnished by such agencies.

DATES: Comments must be received on or before: August 29, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following service(s) are proposed for addition to the Procurement List for production by the nonprofit agencies listed:

Service(s)

Service Type: Contractor Operated Civil Engineer Supply Store.

Mandatory for: U.S. Air Force, 9th Civil Engineering Squadron, Beale AFB, CA.

Designated Source of Supply: Industries for the Blind and Visually Impaired, Inc., West Allis, WI.

Contracting Activity: DEPT OF THE AIR FORCE, FA4686 9 CONS LGC.

Deletions

The following product(s) are proposed for deletion from the Procurement List:

Product(s)

NSN(s)—Product Name(s): 7520-00-286-1725—File, Sorter, Legal, A-Z, Blue

Designated Source of Supply: Exceptional Children's Foundation, Culver City, CA

Contracting Activity: GSA/FAS ADMIN SVCS ACQUISITION BR(2, NEW YORK, NY

NSN(s)—Product Name(s):

MR 921—Roller Mop, Angled Head, 10.5″ Head

MR 399—Set, Cookie Cutter, Assorted, 3PC

MR 391—Slotted Turner, Red

Designated Source of Supply: Industries for the Blind and Visually Impaired, Inc., West Allis, WI

Contracting Activity: Military Resale-Defense Commissary Agency

NSN(s)—Product Name(s):

MR 13111—Cookie Spatula, Slip N' Serve

MR 11103—Pan, Roasting, Oval, Includes Shipper 21103

MR 10640—Bowl, Dressing Dispenser, Salad

Designated Source of Supply: Winston-Salem Industries for the Blind, Inc., Winston-Salem, NC

Contracting Activity: Military Resale-Defense Commissary Agency

NSN(s)—Product Name(s): 4240-01-390-3057—Head Harness, Skull Cap

Contracting Activity: W4GG HQ US ARMY TACOM, ROCK ISLAND, IL

NSN(s)—Product Name(s): 6530-00-NIB-0069—Catheter, External, Male, Self-Adhering, Wide-band, Extra Large

Designated Source of Supply: The Lighthouse for the Blind, St. Louis, MO

Contracting Activity: STRATEGIC ACQUISITION CENTER, FREDERICKSBURG, VA

NSN(s)—Product Name(s): 8455-00-292-9558—Insignia, Embroidered, Marine PFC

Designated Source of Supply: Georgia Industries for the Blind, Bainbridge, GA

Contracting Activity: DLA TROOP SUPPORT, PHILADELPHIA, PA

NSN(s)—Product Name(s):8465-00-001-6474—Entrenching Tool Carrier, Plastic Resin, Olive Drab

Designated Source of Supply: Dallas Lighthouse for the Blind, Inc., Dallas, TX

Contracting Activity: DLA TROOP SUPPORT, PHILADELPHIA, PA

Michael R. Jurkowski,
Deputy Director, Business Operations.

[FR Doc. 2021-16277 Filed 7-29-21; 8:45 am]

BILLING CODE 6353-01-P